SECURITIES AND EXCHANGE COMMISSION

[Release No. 35-27268]

Filings Under the Public Utility Holding Company Act of 1935, as Amended (“Act”)

November 6, 2000.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by November 30, 2000, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After November 30, 2000, the application(s) and/or declaration(s), as filed or as amended, may be granted and/or permitted to become effective.

The Southern Company (70-8277)

The Southern Company (“Southern”), 270 Peachtree Street, NW., Atlanta, Georgia 30303, a registered holding company, has filed a post-effective amendment under sections 6(a) and 7 of the Act and rules 53 and 54 under the Act to an application-declaration previously filed under the Act.

By orders dated August 3, 1995 and December 22, 1999 (HCAR Nos. 26349 and 27119), Southern was authorized, among other things, to issue and sell in one or more transactions, through September 30, 2004 (“Authorization Period”), up to 25 million shares of its authorized but unissued common stock, $5 par value (“Authorized Shares”). The number of Authorized Shares may be adjusted to reflect any share split or distribution authorized by the Commission. Southern now requests that the number of Authorized Shares that may be issued during the Authorization Period be increased from 25 million to 35 million.

For the Commission, by the Division of Investment Management, under delegated authority.
Margaret H. McFarland,
Deputy Secretary.

[FR Doc. 00-29022 Filed 11-13-00; 8:45 am]

BILLING CODE 8010-01-M